DEPARTMENT OF THE TREASURY

Office of Foreign Assets Control

Designation of 3 Individuals and 2 Entities Pursuant to Executive Order 13581, “Blocking Property of Transnational Criminal Organizations”

AGENCY: Office of Foreign Assets Control, Treasury.

ACTION: Notice.

SUMMARY: The Treasury Department's Office of Foreign Assets Control (“OFAC”) is publishing the names of 3 individuals and 2 entities whose property and interests in property are blocked pursuant to Executive Order 13581 of July 24, 2011, “Blocking Property of Transnational Criminal Organizations.”

DATES: The designations by the Acting Director of OFAC, pursuant to Executive Order 13581, of the 3 individuals and 2 entities identified in this notice were effective on December 30, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

This document and additional information concerning OFAC are available from OFAC's Web site (www.treas.gov/ofac).

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On December 30, 2016, the Acting Director of OFAC, in consultation with the Attorney General and the Secretary of State, designated, pursuant to one or more of the criteria set forth in subparagraphs (a)(ii)(A) through (a)(ii)(C) of Section 1 of the Order, 3 individuals and 2 entities whose property and interests in property are blocked pursuant to the Order.

The listings for these individuals and entities on OFAC's List of Specially Designated Nationals and Blocked Persons appear as follows:

Individuals

Entities

Dated: December 30, 2016.
John E. Smith,
Acting Director, Office of Foreign Assets Control.

[FR Doc. 2017-00001 Filed 1-5-17; 8:45 am]

BILLING CODE 4810-AL-P